DEPARTMENT OF TRANSPORTATION

Federal Aviation Administration

14 CFR Part 39

[Docket No. FAA-2005-22384; Directorate Identifier 2005-NM-131-AD]

RIN 2120-AA64

Airworthiness Directives; Airbus Model A300 B2 Series Airplanes, Model A300 B4 Series Airplanes, Model A310-200 Series Airplanes, Model A310-300 Series Airplanes, and Model A300 B4-600, B4-600R, and F4-600R Series Airplanes, and Model C4-605R Variant F Airplanes (Collectively Called A300-600 Series Airplanes)

AGENCY: Federal Aviation Administration (FAA), Department of Transportation (DOT).

ACTION: Notice of proposed rulemaking (NPRM).

SUMMARY: The FAA proposes to adopt a new airworthiness directive (AD) for certain Airbus transport category airplanes. This proposed AD would require repetitive eddy current inspections for cracks of the stiffener fittings of the fuselage at frame (FR) 12A, and corrective actions if necessary. This proposed AD also provides a terminating action for the inspections. This proposed AD results from reports of cracks on the upper attachment fitting of the stiffener fitting at FR12A. We are proposing this AD to prevent failure of the stiffener fittings, which could result in the reduced structural integrity of the floor and rods around FR12A.

DATES: We must receive comments on this proposed AD by October 12, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, Room PL-401, Washington, DC 20590.

• Fax: (202) 493-2251.

• Hand Delivery: Room PL-401 on the plaza level of the Nassif Building, 400 Seventh Street SW., Washington, DC, between 9 a.m. and 5 p.m., Monday through Friday, except Federal holidays.

Contact Jacques Leborgne, Airbus Customer Service Directorate, 1 Rond Point Maurice Bellonte, 31707 Blagnac Cedex, France, fax (+33) 5 61 93 36 14, for service information identified in this proposed AD for Model A300 B2 series airplanes and Model A300 B4 series airplanes. Contact Airbus, 1 Rond Point Maurice Bellonte, 31707 Blagnac Cedex, France, for service information identified in this proposed AD for Model A310-200 series airplanes, Model A310-300 series airplanes, and Model A300-600 series airplanes.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Comments Invited

We invite you to submit any relevant written data, views, or arguments regarding this proposed AD. Include the docket number “FAA-2005-22384; Directorate Identifier 2005-NM-131-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

The Direction Générale de l'Aviation Civile (DGAC), which is the airworthiness authority for France, notified us that an unsafe condition may exist on certain Airbus Model A300 B2 and A300 B4 series airplanes, Model A310-200 and -300 series airplanes, and Model A300-600 series airplanes.

The DGAC advises that there are reports of cracks on the upper attachment fitting of the stiffener fitting on the floor beam at frame (FR) 12A, right-hand and left-hand sides of the fuselage. The DGAC states that the cracks are due to a combined effect of the pressurization of the cabin and bending induced by thermal effects which generates a longitudinal force in the floor beam, causing a high level of fatigue in the fitting. This condition, if not corrected, could result in failure of the stiffener fittings, and consequent reduced structural integrity of the floor and rods around FR12A.

Relevant Service Information

Airbus has issued Service Bulletin A300-53-0365, Revision 01 (for Model A300 B2 and A300 B4 series airplanes); Service Bulletin A300-53-6138, Revision 01 (for Model A300-600 series airplanes); and Service Bulletin A310-53-2117, Revision 01 (for Model A310-200 and A310-300 series airplane); all dated April 4, 2005. The service bulletins describe procedures for repetitive eddy current inspections for cracks of the stiffener fittings of the fuselage at FR12A, and corrective action if necessary. Doing the corrective action eliminates the need for the repetitive inspection. The corrective action includes replacing the existing fitting on FR12A with a FR12A crossbeam and installing a new web between FR12A and FR13 at stringer 26.

The service bulletins refer to Airbus Service Bulletin A300-53-0364, Revision 02, dated September 24, 2004 (for Model A300 B2 and B4 series airplanes); Service Bulletin A300-53-6137, Revision 03, dated April 4, 2005 (for Model A300-600 series airplanes); and Service Bulletin A310-53-2116, Revision 02, dated September 24, 2004 (for Model A310-200 and -300 series airplane); as the appropriate sources of service information for doing the corrective action.

Accomplishing the actions specified in the service information is intended to adequately address the unsafe condition. The DGAC mandated the service information and issued French airworthiness directive F-2005-084, dated May 25, 2005, to ensure the continued airworthiness of these airplanes in France.

FAA's Determination and Requirements of the Proposed AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for airplanes of this type design that are certificated for operation in the United States.

Therefore, we are proposing this AD, which would require accomplishing the actions specified in the service information described previously, except as discussed under “Differences Between the Proposed AD and Service Bulletins.”

Differences Between the Proposed AD and Service Bulletins

Unlike the procedures described in Airbus Service Bulletins A300-53-0365, Revision 01; A300-53-6138, Revision 01; and A310-53-2117, Revision 01; this proposed AD would not permit further flight if cracks are detected in the stiffener fittings of the fuselage at FR12A. We have determined that, because of the safety implications and consequences associated with that cracking, any cracked fitting must be replaced before further flight.

The service bulletins specify to contact the manufacturer for fastener requirements if stiffener fitting FR12A has been replaced, but this proposed AD would require contacting the FAA or the DGAC (or its delegated agent). In light of the type of repair that would be required to address the unsafe condition, and consistent with existing bilateral airworthiness agreements, we have determined that, for this proposed AD, requirements that we or the DGAC approve would be acceptable for compliance with this proposed AD.

Operators should note that, although the Accomplishment Instructions of the referenced service bulletins describe procedures for reporting results, this proposed AD would not require those actions. We do not need this information from operators.

Difference Between French Airworthiness Directive and This Proposed AD

The applicability of French airworthiness directive F-2005-084, dated May 25, 2005, excludes airplanes that accomplished Airbus Service Bulletin A300-53-0364, dated December 1, 2003; Revision 01, dated May 5, 2004; or Revision 02, dated September 24, 2004; or Airbus Service Bulletin A300-53-6137, dated December 1, 2003; Revision 01, dated May 5, 2004; Revision 02, dated September 24, 2004; or Revision 03, dated April 4, 2005; or Airbus Service Bulletin A310-53-2116, dated December 1, 2003; Revision 01, dated May 5, 2004; or Revision 02, dated September 24, 2004; in service. However, we have not excluded those airplanes in the applicability of this proposed AD; rather, this proposed AD includes a requirement to accomplish the actions specified in the latest revision of the service bulletins, as applicable. This requirement would ensure that the actions specified in the service bulletins and required by this proposed AD are accomplished on all affected airplanes. Operators must continue to operate the airplane in the configuration required by this proposed AD unless an alternative method of compliance is approved.

Costs of Compliance

This proposed AD would affect about 202 airplanes of U.S. registry. The proposed inspection would take between 57 and 64 work hours per airplane, at an average labor rate of $65 per work hour. Based on these figures, the estimated cost of the proposed inspection for U.S. operators is between $748,410 and $840,320, or between $3,705 and $4,160 per airplane, per inspection cycle.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Airbus: Docket No. FAA-2005-22384; Directorate Identifier 2005-NM-131-AD.

Comments Due Date

(a) The FAA must receive comments on this AD action by October 12, 2005.

Affected ADs

(b) None.

Applicability: (c) This AD applies to Airbus Model A300 B2-1A, B2-1C, B2K-3C, and B2-203 airplanes; Model A300 B4-2C, B4-103, and B4-203 airplanes; Model A300 B4-601, B4-603, B4-620, and B4-622 airplanes; Model A300 B4-605R and B4-622R airplanes; Model A300 F4-605R and F4-622R airplanes; Model A300 C4-605R Variant F airplanes; Model A310-203, -204, -221, and -222 airplanes; and Model A310-304, -322, -324, and -325 airplanes; certificated in any category; except for airplanes on which AIRBUS Modification 12662 has been done in production.

Unsafe Condition

(d) This AD results from reports of cracks on the upper attachment fitting of the stiffener fitting at frame (FR) 12A. We are issuing this AD to prevent failure of the stiffener fittings, which could result in the reduced structural integrity of the floor and rods around FR12A.

Compliance: (e) You are responsible for having the actions required by this AD performed within the compliance times specified, unless the actions have already been done.

Inspections

(f) At the applicable initial inspection threshold specified in Table 1 of this AD or within the applicable grace period specified in Table 2 of this AD, whichever occurs later: Do an eddy current inspection for cracks of the stiffener fittings of the fuselage at FR12A, in accordance with the Accomplishment Instructions of Airbus Service Bulletin A300-53-0365, Revision 01 (for Model A300 B2-1A, B2-1C, B2K-3C, and B2-203 airplanes, and Model A300 B4-2C, B4-103, and B4-203 airplanes); Service Bulletin A300-53-6138, Revision 01 (for Model A300 B4-601, B4-603, B4-620, and B4-622 airplanes, Model A300 B4-605R and B4-622R airplanes, Model A300 F4-605R and F4-622R airplanes, and Model A300 C4-605R Variant F airplanes); or Service Bulletin A310-53-2117, Revision 01 (for Model A310-203, -204, -221, and -222 airplanes, and Model A310-304, -322, -324, and -325 airplanes); all dated April 4, 2005; as applicable.

Repeat the inspection thereafter at intervals not to exceed the applicable compliance time specified in Table 1 of this AD until the actions specified in paragraph (h) of this AD are done.

Table 1.—Compliance Times for Initial and Repetitive Inspections
For airplanes identified as— | Do the initial inspection prior to the accumulation of— | And repeat at intervals not to exceed—
Configuration 01 in Airbus Service Bulletin A300-53-0365, Revision 01, dated April 4, 2005 | 19,300 total flight cycles | 11,450 flight cycles.
Configuration 02 in Airbus Service Bulletin A300-53-0365, Revision 01, dated April 4, 2005 | 15,500 total flight cycles | 9,200 flight cycles.
Configuration 01 in Airbus Service Bulletin A300-53-6138, Revision 01, dated April 4, 2005 | 19,300 total flight cycles | 11,450 flight cycles.
Configuration 02 in Airbus Service Bulletin A300-53-6138, Revision 01, dated April 4, 2005 | 17,600 total flight cycles | 11,450 flight cycles.
Configuration 03 in Airbus Service Bulletin A300-53-6138, Revision 01, dated April 4, 2005 | 12,700 total flight cycles | 8,000 flight cycles.
Configuration 04 in Airbus Service Bulletin A300-53-6138, Revision 01, dated April 4, 2005 | 10,200 total flight cycles | 6,400 flight cycles.
Configuration 01 in Airbus Service Bulletin A310-53-2117, Revision 01, dated April 4, 2005 | 19,300 total flight cycles | 11,450 flight cycles.
Configuration 02 in Airbus Service Bulletin A310-53-2117, Revision 01, dated April 4, 2005 | 17,600 total flight cycles | 11,450 flight cycles.
Configuration 03 in Airbus Service Bulletin A310-53-2117, Revision 01, dated April 4, 2005 | 12,700 total flight cycles | 8,000 flight cycles.

Table 2.—Grace Period for the Initial Inspection
For Airbus model— | Grace period is—
A300 B2-1A, B2-1C, B2K-3C, and B2-203 airplanes | Within 2,500 flight cycles after the effective date of this AD.
A300 B4-2C, B4-103, and B4-203 airplanes; A300 B4-601, B4-603, B4-620, and B4-622 airplanes; A300 B4-605R and B4-622R airplanes; A300 F4-605R and F4-622R airplanes; A300 C4-605R Variant F airplanes; A310-203, -204, -221, and -222 airplanes; and A310-304, -322, -324, and -325 airplanes | Within 2,000 flight cycles after the effective date of this AD.

Corrective Action

(g) If any cracking is found during any inspection required by paragraph (f) of this AD, before further flight, do the replacement and installation specified in paragraph (h) of this AD.

Terminating Action

(h) Replacing the existing fitting on FR12A with a FR12A crossbeam and installing a new web between FR12A and FR13 at stringer 26 in accordance with Airbus Service Bulletin A300-53-0364, Revision 02, dated September 24, 2004 (for Model A300 B2-1A, B2-1C, B2K-3C, and B2-203 airplanes, and Model A300 B4-2C, B4-103, and B4-203 airplanes); Service Bulletin A300-53-6137, Revision 03, dated April 4, 2005 (for Model A300 B4-601, B4-603, B4-620, and B4-622 airplanes, Model A300 B4-605R and B4-622R airplanes, Model A300 F4-605R and F4-622R airplanes, and Model A300 C4-605R Variant F airplanes); or Service Bulletin A310-53-2116, Revision 02, dated September 24, 2004 (for Model A310-203, -204, -221, and -222 airplanes, and Model A310-304, -322, -324, and -325 airplanes); as applicable; and except as required by paragraph (i) of this AD; constitutes terminating action for the requirements of this AD.

(i) Where the service bulletins specify to contact the manufacturer for certain information, before further flight, do the terminating action according to a method approved by either the Manager, International Branch, ANM-116, FAA, Transport Airplane Directorate; or the DGAC (or its delegated agent).

Actions Accomplished According to Previous Issue of Service Bulletin

(j) Actions accomplished before the effective date of this AD according to the Airbus service bulletins specified in Table 3 of this AD are considered acceptable for compliance with the corresponding actions specified in this AD.

Table 3.—Previous Issues of Service Bulletins
Airbus Service Bulletin | Revision level | Date
A300-53-0364 | Original | December 1, 2003.
A300-53-0364 | 01 | May 5, 2004.
A300-53-0365 | Original | December 1, 2003.
A300-53-6137 | Original | December 1, 2003.
A300-53-6137 | 01 | May 5, 2004.
A300-53-6137 | 02 | September 24, 2004.
A300-53-6138 | Original | December 1, 2003.
A310-53-2116 | Original | December 1, 2003.
A310-53-2116 | 01 | May 5, 2004.
A310-53-2117 | Original | December 1, 2003.

No Reporting Required

(k) Although the service bulletins referenced in this AD specify to submit certain information to the manufacturer, this AD does not include that requirement.

Alternative Methods of Compliance (AMOCs)

(l) The Manager, International Branch, ANM-116, Transport Airplane Directorate, FAA, has the authority to approve AMOCs for this AD, if requested in accordance with the procedures found in 14 CFR 39.19.

Related Information

(m) French airworthiness directive F-2005-084, dated May 25, 2005, also addresses the subject of this AD.

Issued in Renton, Washington, on August 24, 2005.
Ali Bahrami,
Manager, Transport Airplane Directorate, Aircraft Certification Service.

[FR Doc. 05-17980 Filed 9-9-05; 8:45 am]

BILLING CODE 4910-13-P